DEPARTMENT OF ENERGY

Federal Energy Regulatory Commission

[Docket No. EG01-2-000, et al.]

Principal Generation Plant, LLC, et al.; Electric Rate and Corporate Regulation Filings

October 16, 2000.

Take notice that the following filings have been made with the Commission:

1. Principal Generation Plant, LLC

[Docket No. EG01-2-000]

Take notice that on October 10, 2000, Principal Generation Plant, LLC, having its principal place of business at 711 High Street, Des Moines, Iowa 50312 Attn: Corporate Secretary (the applicant) filed with the Federal Energy Regulatory Commission an application for determination of exempt wholesale generator (“EWG”) status pursuant to part 365 of the Commission's regulations.

The applicant is a Delaware limited liability company. The applicant is engaged directly and exclusively in the ownership and/or operation of an electrical generating facility located in close proximity to its principal place of business. No state EWG findings are required.

Comment date: November 6, 2000, in accordance with Standard Paragraph E at the end of this notice. The Commission will limit its consideration of comments to those that concern the adequacy or accuracy of the application.

2. Two Elk Generation Partners, Limited Partnership

[Docket No. EG01-3-000]

Take notice that on October 12, 2000, Two Elk Generation Partners, Limited Partnership (Applicant), c/o Michael J. Ruffatto, North American Power Group, Ltd., 8480 East Orchard Road, Suite 4000, Greenwood Village, CO 80111, filed with the Federal Energy Regulatory Commission an application for determination of exempt wholesale generator status pursuant to Part 365 of the Commission's regulations.

Applicant will own an approximately 320-MW gross electric generating facility located in the vicinity of Campbell County, Wyoming and an interconnection line necessary to effect sales at wholesale. The Facility's electricity will be sold exclusively at wholesale.

Comment date: November 6, 2000, in accordance with Standard Paragraph E at the end of this notice. The Commission will limit its consideration of comments to those that concern the adequacy or accuracy of the application.

3. Dominion Fairless Hills, Inc.

[Docket No. EG01-4-000]

Take notice that on October 11, 2000, Dominion Fairless Hills, Inc. (DFH) filed with the Federal Energy Regulatory Commission an application for determination of exempt wholesale generator status pursuant to Part 365 of the Commission's regulations. DFH is owned by Dominion Energy, Inc., which in turn is a wholly-owned subsidiary of Dominion Resources, Inc. DFH, directly or through an affiliate, proposes to construct, own and operate a gas-fired generating facility with a nominal capacity of 1,200 MW located in Bucks County, Pennsylvania. The facility will be interconnected with transmission facilities under the operational control of PJM Interconnection, L.L.C.

Comment date: November 6, 2000, in accordance with Standard Paragraph E at the end of this notice. The Commission will limit its consideration of comments to those that concern the adequacy or accuracy of the application.

4. The Dayton Power and Light Company

[Docket No. ER01-83-000]

Take notice that on October 10, 2000, The Dayton Power and Light Company (Dayton), tendered for filing a Short-Term Firm Transmission Service Agreement establishing Niagara Mohawk Energy Marketing, Inc., as a customer under the terms of Dayton's Open Access Transmission Tariff.

Dayton requests an effective date of one day subsequent to this filing for the service agreement. Accordingly, Dayton requests waiver of the Commission's notice requirements.

Copies of this filing were served upon establishing Niagara Mohawk Energy Marketing, Inc., and the Public Utilities Commission of Ohio.

Comment date: October 31, 2000, in accordance with Standard Paragraph E at the end of this notice.

5. The Dayton Power and Light Company

[Docket No. ER01-89-000]

Take notice that on October 10, 2000, The Dayton Power and Light Company (Dayton), tendered for filing a Non-Firm Transmission Service Agreement establishing Niagara Mohawk Energy Marketing, Inc., as a customer under the terms of Dayton's Open Access Transmission Tariff.

Dayton requests an effective date of one day subsequent to this filing for the service agreement. Accordingly, Dayton requests waiver of the Commission's notice requirements.

Copies of this filing were served upon establishing Niagara Mohawk Energy Marketing, Inc., and the Public Utilities Commission of Ohio.

Comment date: October 31, 2000, in accordance with Standard Paragraph E at the end of this notice.

6. Alcoa Power Generating Inc.

[Docket No. ER01-90-000]

Take notice that on October 11, 2000, Alcoa Power Generating Inc. (APGI), tendered for a filing service agreement between Public Utility District No. 1 of Chelan County, Washington (Chelan PUD #1) and APGI under APGI's Market Rate Tariff No. 1 (MR-1). This Tariff was accepted for filing by the Commission on July 13, 1999, in Docket No. ER99-2932-000.

The service agreement with Chelan PUD #1 is proposed to be effective October 1, 2000.

Comment date: November 1, 2000, in accordance with Standard Paragraph E at the end of this notice.

7. Puget Sound Energy, Inc.

[Docket No. ER01-91-000]

Take notice that on October 11, 2000, Puget Sound Energy, Inc., tendered for filing a Netting Agreement with Aquila Energy Marketing Corporation (Aquila).

A copy of the filing was served upon Aquila.

Comment date: November 1, 2000, in accordance with Standard Paragraph E at the end of this notice.

8. Duke Energy Corporation

[Docket No. ER01-92-000]

Take notice that on October 11, 2000, Duke Energy Corporation (Duke), tendered for filing a Service Agreement with CMS Marketing, Services and Trading Company, for Non-Transmission Service under Duke's Open Access Transmission Tariff.

Duke requests that the proposed Service Agreement be permitted to become effective on September 22, 2000.

Duke states that this filing is in accordance with Part 35 of the Commission's Regulations and a copy has been served on the North Carolina Utilities Commission.

Comment date: November 1, 2000, in accordance with Standard Paragraph E at the end of this notice.

9. Virginia Electric and Power Company

[Docket No. ER01-93-000]

Take notice that on October 11, 2000, Virginia Electric and Power Company (Dominion Virginia Power or the Company), tendered for filing the following:

Retail Network Integration Transmission Service and Network Operating Agreement (Service Agreement) by Virginia Electric and Power Company to Washington Gas Energy Services, Inc. designated as Service Agreement No. 304 under the Company's Retail Access Pilot Program, pursuant to Attachment L of the Company's Open Access Transmission Tariff, FERC Electric Tariff, Second Revised Volume No. 5, to Eligible Purchasers effective June 7, 2000.

Dominion Virginia Power requests an effective date of October 11, 2000, the date of filing of the Service Agreement.

Copies of the filing were served upon Washington Gas Energy Services, Inc., the Virginia State Corporation Commission, and the North Carolina Utilities Commission.

Comment date: November 1, 2000, in accordance with Standard Paragraph E at the end of this notice.

10. Miami Valley Lighting, Inc.

[Docket No. ER01-95-000]

Take notice that on October 11, 2000, Miami Valley Lighting, Inc., (MVLT), a wholly owned subsidiary of DPL Inc., tendered for filing a rate schedule to engage in sales at market-based rates. MVLT included in its filing a proposed code of conduct.

Comment date: November 1, 2000, in accordance with Standard Paragraph E at the end of this notice.

11. Duke Energy Corporation

[Docket No. ER01-97-000]

Take notice that on October 11, 2000, Duke Energy Corporation (Duke), tendered for filing a Service Agreement with CMS Marketing, Services and Trading Company, for Transmission Service under Duke's Open Access Transmission Tariff.

Duke requests that the proposed Service Agreement be permitted to become effective on September 22, 2000.

Duke states that this filing is in accordance with Part 35 of the Commission's Regulations and a copy has been served on the North Carolina Utilities Commission.

Comment date: November 1, 2000, in accordance with Standard Paragraph E at the end of this notice.

12. Miami Valley Resources, Inc.

[Docket No. ER01-98-000]

Take notice that on October 11, 2000, Miami Valley Resources, Inc., (MVR), a wholly owned subsidiary of DPL Inc., tendered for filing a rate schedule to engage in sales at market-based rates. MVR included in its filing a proposed code of conduct.

Comment date: November 1, 2000, in accordance with Standard Paragraph E at the end of this notice.

13. Commonwealth Edison Company and Commonwealth Edison Company of Indiana

[Docket No. ER01-99-000]

Take notice that on October 10, 2000, Commonwealth Edison Company and Commonwealth Edison Company of Indiana (collectively ComEd), tendered for filing an amendment to its generator interconnection procedures set forth in Attachment K of ComEd's Open Access Transmission Tariff (OATT).

ComEd requests an effective date of December 10, 2000.

Copies of the filing were served upon ComEd's jurisdictional customers and interested state commissions.

Comment date: October 31, 2000, in accordance with Standard Paragraph E at the end of this notice.

14. Deseret Generation & Transmission Co-operative, Inc.

[Docket No. ER01-101-000]

Take notice that on October 11, 2000, Deseret Generation & Transmission Co-operative, Inc. (Deseret), tendered for filing First Revised Service Agreement Nos. 1 through 6 to its FERC Electric Tariff, Volume No. 1. The proposed service agreements include an amendment to provide a rate rebate to each of Deseret's six Member Cooperatives and modifications so as to comply with the Commission's rate schedule designation requirements as set forth in Order No. 614.

Deseret requests an effective date of December 11, 2000.

Copies of this filing were served upon Deseret's six Member Cooperatives.

Comment date: November 1, 2000, in accordance with Standard Paragraph E at the end of this notice.

15. Cinergy Services, Inc., on Behalf of The Cincinnati Gas & Electric Company and its Public Utility Subsidiaries, and PSI Energy, Inc.

[Docket No. ER01-102-000]

Take notice that on October 11, 2000, Cinergy Services, Inc., on behalf of The Cincinnati Gas & Electric Company and its public utility subsidiaries, and PSI Energy, Inc. (collectively Cinergy), tendered for filing pursuant to Section 205 of the Federal Power Act and Part 35 of the Commission's Regulations an amendment to Cinergy's Open Access Transmission Tariff (OATT) originally filed in docket No. OA96-169-000. The changes are intended solely to implement retail restructuring in the state of Ohio.

Cinergy requests that its filing be made effective as of January 1, 2001.

Copies of this filing have been served upon all current and recent firm point-to-point and network transmission customers under Cinergy's OATT, upon the regulatory commissions of Indiana, Ohio and Kentucky, and all participants in the Ohio restructuring proceedings.

Comment date: November 1, 2000, in accordance with Standard Paragraph E at the end of this notice.

Standard Paragraphs

E. Any person desiring to be heard or to protest such filing should file a motion to intervene or protest with the Federal Energy Regulatory Commission, 888 First Street, N.E., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-27123 Filed 10-20-00; 8:45 am]

BILLING CODE 6717-01-U